FEDERAL MARITIME COMMISSION

[Docket No. 25-27]

Elite Logistics Corp., Complainant v. Tanera Transport LLC, Respondent; Notice of Filing of Complaint and Assignment

Notice is given that a complaint has been filed with the Federal Maritime Commission (the “Commission”) by Elite Logistics Corp. (the “Complainant”) against Tanera Transport LLC (the “Respondent”). Complainant states that the Commission has jurisdiction over the complaint pursuant to the Shipping Act of 1984, 46 U.S.C. 40101-41309, and 46 CFR part 502 and section 515.23.

Complainant is a corporation organized and existing under the laws of the state of California with its principal place of business in Long Beach, California.

Complainant identifies Respondent as a limited liability company organized under the laws of the state of California with its principal place of business in Diamond Bar, California.

Complainant alleges that Respondent violated 46 U.S.C. 41102(c). Complainant alleges these violations arose from Respondent's refusal to pay for completed transportation services, which constitute a failure to observe just and reasonable practices in connection with the handling and delivery of property.

An answer to the complaint must be filed with the Commission within 25 days after the date of service.

The full text of the complaint can be found in the Commission's electronic Reading Room at https://www2.fmc.gov/readingroom/proceeding/25-27/. This proceeding has been assigned to the Office of Administrative Law Judges. The initial decision of the presiding judge shall be issued by December 4, 2026, and the final decision of the Commission shall be issued by June 21, 2027.

(Authority: 46 U.S.C. 41301; 46 CFR 502.61(c))

Served: December 4, 2025.
David Eng,
Secretary.

[FR Doc. 2025-22207 Filed 12-5-25; 8:45 am]

BILLING CODE 6730-02-P